DEPARTMENT OF HEALTH AND HUMAN SERVICES

National Institutes of Health

National Heart, Lung, and Blood Institute; Amended Notice of Meeting

Notice is hereby given of a change in the meeting of the Clinical Trials Review Committee, February 25, 2008, 8 a.m. to February 26, 2008, 5 p.m., InterContinental Harbor Court/Baltimore, 550 Light Street, Baltimore, MD 21202 which was published in the Federal Register on January 31, 2008, FR08-420.

The meeting dates were changed from February 25-26, 2008 to February 24-25, 2008. The meeting will be held from 7 p.m. to 11 p.m. on February 24th and 8 a.m. to 3 p.m. on February 25th. The rest of the information remains the same. The meeting is closed to the public.

Dated: February 5, 2008.
Jennifer Spaeth,
Director, Office of Federal Advisory Committee Policy.

[FR Doc. 08-604 Filed 2-12-08; 8:45 am]

BILLING CODE 4140-01-M